FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Bestway Shipping, Inc., 1123 E. Dominguez Street, Unit F, Carson, CA 90748. Officer: JAJ Won Lee, President. (Qualifying Individual)

Airgroup Corporation dba Airgroup Seafreight, 1227 120th Avenue NE., Bellevue, WA 98005. Officer: Michael Von Loesch, Vice President. (Qualifying Individual)

T&T Express Shipping, LLC, 472 Sutter Avenue, Brooklyn, NY 11207. Officer: Patricia Williams, Member. (Qualifying Individual)

Transmodal Corporation, 48 S. Franklin Tpke, Ste. 204, Ramsey, NJ 07448. Officer: Max Kantzer, President. (Qualifying Individual)

Neptune Shipping Limited dba Novalink Logistics, 240 S. Garfield Ave., Alhambra, CA 91801. Officer: Anthony K. Chien, Vice President. (Qualifying Individual)

Ace Relocation Systems, Inc., 5608 Eastgate Drive, San Diego, CA 92121. Officers: Daniel J. Lammers, Vice President. (Qualifying Individual) Lawrence R. Lammers, President.

Non-Vessel Operating Common Carrier and Ocean Freight Forwarder Transportation Intermediary Applicants

Davis Daniels Enterprises, Inc., 2045 John Crosland Dr. Way, Charlotte, NC 28208. Officers: William A. Pottow, Int'l. Manager. (Qualifying Individual) James R. Davis, President.

Trans Andes Cargo Freight Forwarding LLC, 6541 NW 87th Street, Miami, FL 33016. Officer: Mirelys Zayas, General Manager. (Qualifying Individual)

JAP Logistics, Inc. dba JAP Cargo, 8406 NW 17th Street, Miami, FL 33126. Officers: Janette Perdomo, Secretary. (Qualifying Individual) Santiago Montilla, President.

TBS Lolgistics Incorporated and Magnum Lines, 11731 Jones Road, #200, Houston, TX 77079. Officer: Donald Rawlings, President. (Qualifying Individual)

Glodex, Corp., 7235 NW 54th Street, Miami, FL 33166. Officer: Maria L. Brito, Treasurer. (Qualifying Individual)

Barsan International, Inc., 17-09 Zink Place, Unit 5, Fairlawn, NJ 07410. Officer: Ugur Aksu, President. (Qualifying Individual)

Tri-Best Logistics, Inc., 6131 Orange Thorpe Ave., Buena Park, CA 90620. Officer: Fiona M. Hooks, Secretary. (Qualifying Individual)

API International Transportation(USA), Inc. dba Silver Pacific Global Logistics, 41661 Enterprise Circle North, Temecula, CA 92590. Officers: Steven P. Rubin, Dir. U.S. Operations. (Qualifying Individual) Michael J. Helten, President.

Trayma Cargo Corp., 9999 NW 89th Avenue, Suite 9, Medley, FL 33178. Officers: Jenny Salazar, Treasurer. (Qualifying Individual) Christian Umana, President.

American Cargo International, Inc., 1303 NW 78 Avenue, Doral, FL 33126. Officer: Annia De Paz, Vice President. (Qualifying Individual)

Integrity Cargo Freight Corporation, 160 Route 35, Cliffwood Beach, NJ 07735. Officer: Charles Derose, V.P. Sales & Marketing. (Qualifying Individual)

Blue Ocean Shipping, Inc. dba Advanced Shipping, Corp., 1221 Landmeier Road, Elk Grove Village, IL 60007. Officer: Kim Bong Sub, President. (Qualifying Individual)

Ocean Freight Forwarder—Ocean Transportation Intermediary Applicants

Aspen Forwarder & Customs House Brokers, Inc., 20 W. Lincoln Ave., Ste. #203, Valley Stream, NY 11580. Officer: Richard Pignatelli, Vice President. (Qualifying Individual)

Hansen Shipping Agency, Inc., 4885 Olde Towne Parkway, #50, Marietta, GA 30068. Officer: David Smith, President. (Qualifying Individual)

TSC Logistics LLC, 2500-B Broening Highway, #100, Baltimore, MD 21224. Officers: Muhammad I. Kazi, Vice President. (Qualifying Individual) William Hutton, President.

Galaxy Forwarding, Inc., 407 River Drive South, Jersey City, NJ 07310. Officer: Valerie Cilenti, Secretary. (Qualifying Individual)

Express Shipping Company of Illinois, 670 E. Northwest Hwy., 2nd Floor, Arlington Heights, IL 60004. Officers: Yevgenly Kapelevich, President. (Qualifying Individual) Vladimir Lipkin, Vice President.

Dated: December 19, 2008.
Karen V. Gregory,
Secretary.

[FR Doc. E8-30678 Filed 12-23-08; 8:45 am]

BILLING CODE 6730-01-P